DEPARTMENT OF ENERGY

National Nuclear Security Administration

Notice of Availability of the Final Environmental Impact Statement for the Proposed Chemistry and Metallurgy Research Building Replacement Project at Los Alamos National Laboratory, Los Alamos, NM

AGENCY: National Nuclear Security Administration, Department of Energy.

ACTION: Notice of availability.

SUMMARY: The Department of Energy's (DOE) National Nuclear Security Administration (NNSA) announces the availability of the Final Environmental Impact Statement for the Chemistry and Metallurgy Research Building Replacement Project at Los Alamos National Laboratory, Los Alamos, New Mexico (the Final CMRR EIS). The present Chemistry and Metallurgy Research (CMR) Building at Los Alamos National Laboratory (LANL) houses mission critical analytical chemistry, material characterization and research and development capabilities involving actinides (actinides are any of a series of elements with atomic numbers ranging from actinium-89 through lawrencium-103). The Final CMRR EIS considers the potential environmental impacts that could result due to the consolidation and relocation of these CMR capabilities from the existing aged CMR Building to a new facility such that these capabilities would be available on a long-term basis to successfully accomplish LANL mission support activities or programs. Two locations at LANL were evaluated for locating a new CMRR Facility: A location within Technical Area (TA) -55 and a location within TA-6. The Final CMRR EIS also considers the no-action alternative of maintaining the CMR capabilities at the existing CMR Building.

DATES: The NNSA intends to issue a Record of Decision on the CMRR EIS no sooner than 30 days after the Environmental Protection Agency publishes a notice of filing of the Final CMRR EIS in the Federal Register.

ADDRESSES: A copy of the Final CMRR EIS and its Summary may be obtained upon request by writing to: U.S. Department of Energy, National Nuclear Security Administration, Los Alamos Site Office, Attn: Ms. Elizabeth Withers, Office of Facility Operations, 528 35th Street, Los Alamos, New Mexico, 87544; by facsimile ((505) 667-9998); or by e-mail (CMRR EIS@doeal.gov). Copies of the Final CMRR EIS are also available for review at: the Los Alamos Outreach Center, 1619 Central Avenue, Los Alamos, New Mexico, 87544; and the Zimmerman Library, University of New Mexico, Albuquerque, New Mexico 87131.

FOR FURTHER INFORMATION CONTACT: For general information on NNSA NEPA process, please contact: Mr. James Mangeno (NA 1), NEPA Compliance Officer for Defense Programs, U.S. Department of Energy, National Nuclear Security Administration, 19901 Germantown Road, Germantown, MD 20874-1290, or telephone 1-800-832-0885. For general information about the DOE NEPA process, please contact: Ms. Carol Borgstrom, Director, Office of NEPA Policy and Compliance (EH-42), U.S. Department of Energy, 1000 Independence Avenue, SW., Washington, DC 20585, (202) 586-4600, or leave a message at 1-800-472-2756.

SUPPLEMENTARY INFORMATION: Mission critical CMR capabilities at LANL support NNSA's stockpile stewardship and management strategic objectives. The CMR Building's analytical chemistry, materials characterization, and actinide research and development capabilities are necessary to support the current and future directed stockpile work and campaign activities conducted at LANL. The CMR Building is over 50 years old and approaching end of design life. Studies conducted in the late 1990s identified a seismic fault trace located beneath the CMR Building, which greatly enhances the level of structural upgrades needed for the building to meet current structural seismic code requirements for a Hazard Category 2 nuclear facility. The CMR Building has been upgraded such that operations can continue, on a restricted basis, in support of national security missions. The CMR Upgrades project was designed to extend the life of the CMR Building through approximately 2010. It would be cost prohibitive to perform the needed repairs, upgrades, and systems retrofitting for a long-term (beyond 2010), unrestricted use of the CMR Building.

NNSA cannot continue to perform the assigned LANL mission critical CMR capabilities in the existing CMR Building at an acceptable level of risk to public and worker health and safety without operational restrictions. These operational restrictions would preclude the full implementation of the level of operation DOE decided upon through its Record of Decision for the 1999 LANL Site-wide Environmental Impact Statement for the Continued Operation of Los Alamos National Laboratory (DOE/EIS-0238). CMR capabilities are necessary to support the current and directed stockpile work and campaign activities at LANL. By 2010, operations will have been conducted in the existing CMR Building for 60 years; this is the estimated operational life span for nuclear operations at the existing CMR Building. Given that the CMR Building is near the end of its useful life, action is now required by NNSA to assess alternatives for continuing these activities for the succeeding 50 years.

The Final CMRR EIS evaluates the environmental impacts associated with relocating the CMR capabilities at LANL to new buildings sited at the following alternative locations: (1) Next to the Plutonium Facility at TA-55 at LANL (the Proposed Action), and (2) a “greenfield” site within TA-6. The NNSA also evaluated performing minimal necessary structural and systems upgrades and repairs to portions of the existing CMR Building and continuing the use of these upgraded portions of the structure for administrative offices and support function purposes, as well as evaluating the potential decontamination and demolition of the existing CMR Building as disposition options coupled with the alternatives for construction and operation of new nuclear laboratory facilities at the two previously identified locations. The Final CMRR EIS considers the performance of minimal necessary structural and systems upgrades and repairs to the existing CMR Building as a no-action alternative with continued maintenance of limited mission critical CMR capabilities at the CMR Building.

In the Final CMRR EIS, the Administrator of the NNSA designated Alternative 1, the Proposed Action of constructing and operating a new CMRR Facility at TA-55, as its preferred alternative. Additionally, the designated preferred construction option is the construction of a single consolidated SNM-capable Hazard Category laboratory above ground with a separate administrative offices support functions building (Option 3); NNSA's preferred option for the disposition of the CMR Building is to decontaminate, decommission, and demolish that entire structure (Option 3).

Signed in Washington, DC, this 21 day of October, 2003.
Everet H. Beckner,
Deputy Administrator for Defense Programs, National Nuclear Security Administration.

[FR Doc. 03-28508 Filed 11-13-03; 8:45 am]

BILLING CODE 6450-01-P